DEPARTMENT OF THE TREASURY

Submission for OMB review; comment request

June 4, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 12, 2001 to be assured of consideration.

Bureau of Alcohol, Tobacco and Firearms (BATF)

OMB Number: 1512-0026.

Form Number: ATF F 3 (5320.3).

Type of Review: Revision.

Title: Application for Tax Exempt Transfer of Firearm and Registration to Special (Occupational) Taxpayer.

Description: This form is used by qualified persons to apply for permission to transfer National Firearms Act firearms to other qualified persons exempt from tax. The form establishes eligibility and exemption.

Respondents: Business or other for-profit.

Estimated Number of Recordkeepers: 2,521.

Estimated Burden Hours Per Recordkeeper: 30 minutes.

Frequency of Response: Other (ATF 3 is required to be submitted and approved by ATF prior to the transfer of a National Firearms Act weapon from one Special Occupational Tax paying Federal firearms licensee to another Special taxpaying licensee. The form is required whenever such a transfer is to be made.)

Estimated Total Reporting Burden: 13,111 hours.

OMB Number: 1512-0027.

Form Number: ATF F 4 (5320.4).

Type of Review: Revision.

Title: Application for Tax Paid Transfer and Registration of Firearm.

Description: This form is used to apply for permission to transfer a National Firearms Act firearm subject to the transfer tax imposed by the National Firearms Act. The form establishes eligibility.

Respondents: Business or other for-profit.

Estimated Number of Respondents: 11,065.

Estimated Burden Hours Per Respondent: 4 hours.

Frequency of Response: On occasion.

Estimated Total Reporting Burden: 44,260 hours.

OMB Number: 1512-0028.

Form Number: ATF F 5 (5320.5).

Type of Review: Revision.

Title: Application for Tax Exempt Transfer and Registration of Firearm.

Description: This form is used to apply for permission to transfer an National Firearm Act firearm exempt from transfer tax based on statutory exemptions. The form establishes eligibility and exemption.

Respondents: Business or other for-profit, Individuals or households, State, Local or Tribal Government.

Estimated Number of Respondents: 7,888.

Estimated Burden Hours Per Respondent: 4 hours.

Frequency of Response: On occasion.

Estimated Total Reporting Burden: 379,896 hours.

Clearance Officer: Frank Bowers, (202) 927-8930, Bureau of Alcohol, Tobacco and Firearms, Room 3200, 650 Massachusetts Avenue, NW, Washington, DC 20226.

OMB Reviewer: Alexander T. Hunt, (202) 395-7860, Office of Management and Budget, Room 10202, New Executive Office Building, Washington, DC 20503.

Lois K. Holland,
Departmental Reports, Management Officer.

[FR Doc. 01-14682 Filed 6-11-01; 8:45 am]

BILLING CODE 4810-31-P